ADMINISTRATIVE CONFERENCE OF THE UNITED STATES

Notice of Public Meeting of the Assembly of the Administrative Conference of the United States

AGENCY: Administrative Conference of the United States (ACUS).

ACTION: Notice.

SUMMARY: The Assembly of the Administrative Conference of the United States will meet during a one-day hybrid plenary session to consider proposed recommendations and to conduct other business. Written comments may be submitted in advance, and the meeting will be accessible to the public.

DATES: The meeting will take place on Thursday, June 16, 2022, from 10:00 a.m.-5:00 p.m. The meeting may adjourn early if all business is finished.

ADDRESSES: The meeting will be conducted using a hybrid approach of virtual and in-person participation. Members of the ACUS Assembly and ACUS senior fellows, special counsel, and liaison representatives may participate virtually or in person at the George Washington University Law School, 2000 H Street NW, Washington, DC 20052. Members of the general public may only observe the plenary session by accessing a livestream at https://www.acus.gov/meetings-and-events/plenary-meeting/77th-plenary-session. A video recording of the meeting will also be available on that web page after the conclusion of the event. Any changes to the meeting format necessitated by federal and local health guidelines will be announced on the web page linked immediately above.

FOR FURTHER INFORMATION CONTACT: Shawne McGibbon, General Counsel (Designated Federal Officer), Administrative Conference of the United States, Suite 706 South, 1120 20th Street NW, Washington, DC 20036; Telephone 202-480-2080; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595). For further information about the Conference and its activities, please visit www.acus.gov.

Agenda: The Assembly will receive updates on past, current, and pending Conference initiatives; and, pending final action by the Conference's the Council, three proposed recommendations will be considered. Summaries of the recommendations appear below:

Automated Legal Guidance at Federal Agencies. This proposed recommendation identifies best practices for agencies to use when designing and updating automated tools, such as interactive chatbots and virtual assistants, to provide legal guidance to the public. It addresses factors agencies should consider in deciding whether to utilize automated legal guidance tools, how agencies that utilize those tools can ensure that the information they provide is accurate and current, and how agencies can ensure that recipients of such guidance understand its limitations and do not rely on it to their detriment.

Contractors in Rulemaking. This proposed recommendation identifies best practices for managing contractors that assist agencies in the rulemaking process. It recommends that agencies clearly delineate responsibility between contractors and agency staff, provide proper oversight of contractors, and ensure transparency in connection with the agency's contractual activities.

Improving Notice of Regulatory Changes. This proposed recommendation offers best practices for agencies to ensure that members of the public receive effective notice of regulatory changes, focusing especially on the needs of parties with limited resources to monitor agency actions. It recommends that agencies consider a variety of possible strategies for improving notice of regulatory changes, including designing agency websites to provide clear notice of regulatory changes, publicizing regulatory changes through social media and email lists, and providing direct notice of regulatory changes to those affected by them.

In addition to discussing and voting on the proposed recommendations mentioned above, the Assembly will also discuss two ongoing projects. The first is a study examining how nationwide injunctions and similar equitable remedies affect the administration of federal programs. The second is a project designed to produce a Statement of Principles that synthesizes the dozens of Conference recommendations that promote the public availability of administrative materials.

Additional information about the proposals and the agenda, as well as any changes or updates to the same, can be found at the 77th Plenary Session page on the Conference's website prior to the start of the meeting: https://www.acus.gov/meetings-and-events/plenary-meeting/77th-plenary-session.

Public Participation: The Conference welcomes the virtual attendance of the public at the meeting. A link to a livestream of the meeting will be posted the morning of the meeting at https://www.acus.gov/meetings-and-events/plenary-meeting/77th-plenary-session. A video recording of the meeting will also be available on that web page shortly after the conclusion of the event.

Written Comments: Persons who wish to comment on any of the proposed recommendations may do so by submitting a written statement either online by clicking “Submit a comment” on the 77th Plenary Session web page shown above or by mail addressed to: June 2022 Plenary Session Comments, Administrative Conference of the United States, Suite 706 South, 1120 20th Street NW, Washington, DC 20036. Written submissions must be received no later than 10:00 a.m. (EDT), Friday, June 10, 2022, to ensure consideration by the Assembly.

(Authority: 5 U.S.C. 595)

Dated: May 25, 2022.
Shawne McGibbon,
General Counsel.

[FR Doc. 2022-11698 Filed 5-31-22; 8:45 am]

BILLING CODE 6110-01-P